DEPARTMENT OF TRANSPORTATION

National Highway Traffic Safety Administration

49 CFR Part 571

[Docket No. NHTSA-2008-0015]

RIN 2127-AG51

Federal Motor Vehicle Safety Standards; Roof Crush Resistance

AGENCY: National Highway Traffic Safety Administration (NHTSA), Department of Transportation.

ACTION: Proposed rule; extension of comment period.

SUMMARY: In January 2008, NHTSA published a supplemental notice of proposed rulemaking in connection with its ongoing rulemaking to upgrade the Federal motor vehicle safety standard on roof crush resistance. That rulemaking is part of a comprehensive plan for reducing the serious risk of rollover crashes and the risk of death and serious injury in those crashes.

We received a petition from Public Citizen and Advocates for Highway and Auto Safety requesting an extension of the comment period. After considering the petition, we are extending the comment period by 10 days, from March 17, 2008, to March 27, 2008.

DATES: Comments must be received on or before March 27, 2008.

ADDRESSES: You may submit comments to the docket number identified in the heading of this document by any of the following methods:

• Federal eRulemaking Portal: go to http://www.regulations.gov. Follow the online instructions for submitting comments.

• Mail: Docket Management Facility, M-30, U.S. Department of Transportation, West Building, Ground Floor, Rm. W12-140, 1200 New Jersey Avenue, SE., Washington, DC 20590.

• Hand Delivery or Courier: West Building Ground Floor, Room W12-140, 1200 New Jersey Avenue, SE., between 9 am and 5 pm Eastern Time, Monday through Friday, except Federal holidays.

• Fax: (202) 493-2251.

Regardless of how you submit your comments, you should mention the docket number of this document.

You may call the Docket Management Facility at 202-366-9826.

Note that all comments received will be posted without change to http://www.regulations.gov, including any personal information provided.

FOR FURTHER INFORMATION CONTACT: For technical issues: Mr. Christopher Wiacek, Office of Rulemaking, National Highway Traffic Safety Administration, 1200 New Jersey Avenue, SE., Washington, DC 20590. Telephone: (202) 366-4801.

For legal issues: Mr. Edward Glancy, Office of the Chief Counsel, National Highway Traffic Safety Administration, 1200 New Jersey Avenue, SE., Washington, DC 20590. Telephone: (202) 366-2992.

SUPPLEMENTARY INFORMATION: On August 23, 2005, NHTSA published in the Federal Register (70 FR 49223) a notice of proposed rulemaking (NPRM)¹ to upgrade Federal Motor Vehicle Safety Standard (FMVSS) No. 216, Roof Crush Resistance. As discussed in the NPRM, this rulemaking is part of a comprehensive plan for reducing the serious risk of rollover crashes and the risk of death and serious injury in those crashes. In addition to roof crush, other strategies in the comprehensive approach include crash-avoidance initiatives such as electronic stability control, which will significantly reduce the number of rollovers, as well as crashworthiness efforts such as ejection mitigation and improved door lock strength, which will lower the probability of ejection when rollovers do occur.

¹ Docket No. NHTSA-2005-22143.

On January 30, 2008, NHTSA published in the Federal Register (73 FR 5484) a supplemental notice of proposed rulemaking (SNPRM) ² for its ongoing rulemaking on roof crush resistance. We asked for public comment on a number of issues that may affect the content of the final rule, including possible variations in the proposed requirements. We also announced the release of the results of various vehicle tests conducted since the proposal and invited comments on how the agency should factor this new information into its decisions regarding the final rule. We noted that, in developing a final rule, the agency would consider the comments submitted on both the August 2005 NPRM and the SNPRM. Thus, there is no need for persons to re-submit the comments they provided for the NPRM.

² Docket No. NHTSA-2008-0015.

We provided a 45-day comment period for the SNPRM. We stated we believed this was appropriate given that the SNPRM has a more limited focus than the NPRM, and given the need to comply with a statutory deadline. The statutory deadline for issuing a final rule is July 1, 2008.

In a petition dated February 25, 2008, Public Citizen and Advocates for Highway and Auto Safety (Advocates) requested a 30-day extension of the comment period. The petitioners stated that a 45-day period “is a relatively short time period that does not provide safety organizations adequate opportunity to review the newly proposed regulatory alternative, evaluate the additional test data * * * or consider the policy implications of the changes and prepare comments * * *.” They did not provide detailed information concerning why a longer comment period is needed or what additional information would result from the extension.

After considering the petition from Public Citizen and Advocates, we have decided to extend the comment period by 10 days. In considering the extension request, we weighed the statutory deadline, the complexity of this rulemaking, and the basis for the request. We recognize that there are a number of complex issues involved with this rulemaking, and wish to facilitate the efforts of the petitioners and other interested persons to provide complete comments. However, we also note, as indicated above, that the SNPRM has a more limited focus than the NPRM, and the July 1, 2008 statutory deadline. After weighing these considerations and the specific information provided by the petitioners, we believe it is appropriate to provide a 10-day extension, but not a 30-day extension.

Finally, we note that given the 10-day extension and the July 1, 2008 statutory deadline, our ability to consider late comments is likely to be limited. Therefore, while we will consider late comments to the extent possible, we encourage interested persons to submit their comments by the new comment closing date.

Issued: March 10, 2008.
Ronald L. Medford,
Senior Associate Administrator for Vehicle Safety.

[FR Doc. 08-1025 Filed 3-10-08; 4:34 pm]

BILLING CODE 4910-59-P